DEPARTMENT OF JUSTICE

Notice of Lodging of Consent Decree Pursuant to Sections 107 and 113 of CERCLA

Notice is hereby given that on June 5, 2000, the United States lodged a proposed Consent Decree with the United States District Court for the Southern District of Texas, in Tex Tin Corp. v. United States, et al., Civ. A. No. G-96-247), pursuant to Sections 107 and 113 of CERCLA, 42 U.S.C. 9607 and 9613. The proposed Consent Decree resolves civil claims of the United States and the State of Texas (“State”) against Tex Tin Corporation (“Tex Tin”), the current owner of the Tex Tin Superfund Site (“Site”) in Texas City, Texas, and against related and affiliated Tex Tin entities. The proposed Consent Decree also resolves Tex Tin's contribution claims against several Settling Federal Agencies. Under the proposed Consent Decree, Tex Tin, and its related and affiliated entities, agree to pay nearly $1 million of the United States' past response costs related to the Site; pay $225,000 to resolve Federal and State natural resource damage claims; and pay $300,000 to fund a Custodial Trustee for the care and maintenance of the property. Tex Tin, and its parent Metallon Holdings Company, have filed for Chapter 11 bankruptcy in the U.S. Bankruptcy Court for the Southern District of New York (White Plains Division), and the proposed Consent Decree will not become effective until approval by both the Bankruptcy Court and the District Court.

Commenters may request an opportunity for a public meeting in the affected area, in accordance with Section 7003(d) of RCRA, 42 U.S.C. 6973(d). In addition, commenters may request such a hearing connection with a related consent decree for the Tex Tin Site; in United States and State of Texas v. Alpha Metals, Inc., et al., Civ. A. No. G-00250 (S.D. Tex.), providing for cleanup of the Site and partial reimbursement of response costs and natural resource damages, lodged May 5, 2000, and noticed at 65 FR 32123-32124 (May 22, 2000). The public comment period for that related consent decree closes on June 21, 2000.

The Department of Justice will receive comments relating to the proposed Consent Decree for 30 days following publication of this Notice. Comments should be addressed to the Assistant Attorney General, Environment and Natural Resources Division, United States Department of Justice, P.O. Box 7611, Ben Franklin Station, Washington, D.C. 20044-7611, and should refer to Tex Tin Corp. v. United States, et al., DOJ No. 90-11-3-1669A. The proposed Consent Decree may be examined at the Office of the United States Attorney for the Southern District of Texas, Houston, Texas, and the Region VI Office of the United States Environmental Protection Agency, 1445 Ross Avenue, Dallas, Texas, 75202. A copy of the proposed Consent Decree may be obtained by mail from the Department of Justice Consent Decree Library, P.O. Box 7611, Washington, D.C. 20044. In requesting a copy, please enclose a check for reproduction costs (at 25 cents per page) in the amount of $38.50 for the Decree, payable to the Consent Decree Library.

Bruce S. Gelber,
Deputy Chief, Environmental Enforcement Section, Environment and Natural Resources Division.

[FR Doc. 00-14928 Filed 6-13-00; 8:45 am]

BILLING CODE 4410-15-M